DEPARTMENT OF THE INTERIOR

National Park Service

Middle Fork Avalanche Hazard Reduction, Environmental Impact Statement, Glacier National Park, MT

AGENCY: National Park Service, Department of the Interior.

ACTION: Notice of Intent to prepare an Environmental Impact Statement for Middle Fork Avalanche Hazard Reduction, Glacier National Park.

SUMMARY: Pursuant to the National Environmental Policy Act of 1969, 42 U.S.C. 4332(C), the National Park Service is preparing an Environmental Impact Statement for Middle Fork Avalanche Hazard Reduction for Glacier National Park, Montana. This effort will result in agreed upon methods to reduce the avalanche hazard to trains and personnel that travel through the John Stevens Canyon between mile post 180 and 192 on State Highway 2, adjacent to the boundary of Glacier National Park. The Burlington Northern Santa-Fe Railroad runs along the southern boundary of Glacier National Park on Flathead National Forest lands. These lands are under a Right-of-Way. The avalanche paths that threaten the trains and personnel are within Glacier National Park. Alternatives to be considered include (1) No-Action, (2) Snow Sheds in all Chutes and an Avalanche Monitoring Program (but no triggering or stability testing), (3) Combination of Snow Sheds and Avalanche Monitoring, Stability Testing and Triggering, (4) No New Sheds and Ongoing Avalanche Monitoring Stability Testing and Triggering and (5) Temporary Avalanche Monitoring, Stability Testing and Triggering Until Snow Sheds are Constructed. The No Action alternative will consider the affects of maintaining the existing sheds avalanche monitoring and continued use of the existing avalanche sensor wires. Alternative 2 will consider the effects of constructing five new sheds and adding onto six existing sheds. Avalanche monitoring would be ongoing, but no stability testing or triggering would occur after sheds are constructed. Alternative 3 will consider a combination of snow sheds and monitoring, stability testing and triggering of avalanches when snow conditions indicate. Alternative 4 will consider only using avalanche monitoring, stability testing and triggering. Alternative 5 will consider the temporary use of avalanche stability testing and triggering until snow sheds are constructed. Avalanche monitoring would continue to occur.

Major issues include avalanche stability testing and triggering within proposed wilderness in Glacier National Park, impacts to threatened and endangered species known to use the area, winter recreational use in the area, protection of resources from accidental freight spills caused by avalanches, and safety for the public and personnel in the area. Amtrak travels daily through the area.

A scoping letter has been prepared. Copies may be obtained from Superintendent, PO Box 128, Glacier National Park, West Glacier, Montana 59936 or by calling 406-888-7901. Information may also be obtained from http://parkplanning.nps.gov/.

DATES: The Park Service will accept comments from the public through July 21, 2005.

ADDRESSES: Information will be available for public review and comment in the office of the Superintendent, and at the following locations Glacier National Park, Superintendent's Office, Headquarters, West Glacier, Montana, 406-888-7901, Hudson Bay District Office, St. Mary Montana or at http://parkplanning.nps.gov.

FOR FURTHER INFORMATION CONTACT: Mary Riddle, Glacier National Park, PO Box 128 West Glacier, Montana 59936, 406-888-7898. mary_riddle@nps.gov.

SUPPLEMENTARY INFORMATION: If you wish to comment on the scoping letter or on any other issues associated with the plan, you may submit your comments by any one of several methods. You may mail comments to Superintendent, Glacier National Park PO Box 128 West Glacier, Montana 59936. You may also comment via the Internet to http://parkplanning.nps.gov/ You may hand-deliver comments to Glacier National Park, Headquarters, West Glacier, Montana. Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: May 9, 2005.
Michael Snyder,
Deputy Director, Intermountain Region, National Park Service.

[FR Doc. 05-12213 Filed 6-20-05; 8:45 am]

BILLING CODE 4310-52-P